DEPARTMENT OF TRANSPORTATION

Federal Aviation Administration

Notice of Intent To Rule on Application 03-03-C-00-SDF To Impose and Use the Revenue From a Passenger Facility Charge (PFC) at Louisville International Airport, Louisville, KY

AGENCY: Federal Aviation Administration (FAA), DOT.

ACTION: Notice of intent to rule on application.

SUMMARY: The FAA proposes to rule and invites public comment on the application to impose and use the revenue from a PFC at Louisville International Airport under the provisions of the 49 U.S.C. 40117 and part 158 of the Federal Aviation Regulations 914 CFR part 158).

DATES: Comments must be received on or before August 13, 2003.

ADDRESSES: Comments on this application may be mailed or delivered in triplicate to the FAA at the following address: Memphis Airports District Office, 3385 Airways Boulevard, Suite 302, Memphis, Tennessee 38116-3841. In addition, one copy of any comments submitted to the FAA must be mailed or delivered to Mr. James C. DeLong, General Manager of the Regional Airport Authority of Louisville and Jefferson County at the following address: Post Office Box 9129, Louisville, Kentucky 40209.

Air carriers and foreign air carriers may submit copies of written comments previously provided to the Regional Airport Authority of Louisville and Jefferson County under section 158.23 of part 158.

FOR FURTHER INFORMATION CONTACT: Mr. Jerry O. Bowers, Airports Program Manager, Memphis Airports District Office, 3385 Airways Boulevard, Suite 302, Memphis, Tennessee 38116-3841, (901) 544-3495, Extension 221. The application may be reviewed in person at this same location.

SUPPLEMENTARY INFORMATION: The FAA proposes to rule and invites public comment on the application to impose and use the revenue from a PFC at Louisville International Airport under the provisions of the 49 U.S.C. 40117 and Part 158 of the Federal Aviation Regulations (14 CFR part 158).

On July 2, 2003, the FAA determined that the application to impose and use the revenue from a PFC submitted by Regional Airport Authority of Louisville and Jefferson County was substantially complete within the requirements of section 158.25 of part 158. The FAA will approve or disapprove the application, in whole or in part, no later than October 22, 2003.

The following is a brief overview of the application.

Proposed charge effective date: April 1, 2017.

Proposed charge expiration date: June 1, 2018.

Level of the proposed PFC: $3.00.

Total estimated PFC revenue: $5,666,800.

Brief Description of proposed project(s): Regional Jet gates and holding rooms.

Class or classes of air carriers which the public agency has requested not be required to collect PFCs; Air taxi/commercial operator (ATCO), certified air carriers (CAC), and certified route air carriers (CRAC) having fewer than 500 annual enplanements.

Any person may inspect the application in person at the FAA office listed above under FOR FURTHER INFORMATION CONTACT and at the FAA regional Airport office located at: 1701 Columbia Avenue, College Park, Georgia 30337.

In addition, any person may, upon request, inspect the application, notice and other documents germane to the application in person at the Regional Airport Authority of Louisville and Jefferson County.

Issued in Memphis, Tennessee on July 2, 2003.
LaVerne F. Reid,
Manager, Memphis Airports District Office, Southern Region.

[FR Doc. 03-17658 Filed 7-11-03; 8:45 am]

BILLING CODE 4910-13-M